Proclamation 9156 of August 29, 2014

National Childhood Obesity Awareness Month, 2014

By the President of the United States of America

A Proclamation

Childhood obesity is one of the most urgent health issues we face in the United States. Nearly one in three American children are overweight or obese, putting them at risk for many immediate and long-term health problems—including high cholesterol, high blood pressure, heart disease, diabetes, and cancer. As a Nation, we have a responsibility to ensure our children have every chance to fulfill their potential, and that starts by providing them with the opportunities to make healthy choices. Recent data show progress is possible: obesity rates have fallen by 43 percent among children ages two to five years old. But we must remain committed to improving the health of kids of all ages. This month, we build on our progress and raise awareness of the benefits of healthy eating and active living so our children can lead prosperous and productive lives.

First Lady Michelle Obama's Let's Move! initiative is striving to ensure every young person has a chance at a healthy childhood. For more than 4 years, Let's Move! has brought together stakeholders across the public and private sectors to encourage and expand access to physical activity and nutritious foods—two components of a healthy lifestyle. Across America, more communities have gained access to healthy and affordable food and the information needed to make more nutritious choices. Businesses are marketing healthier foods to kids, and families are buying healthier products.

Family members, caregivers, and other role models can also play a critical role in helping children make healthy choices. Those who support our kids can model healthy behaviors by staying active and preparing healthy meals at home. Families can plant kitchen gardens, cook together, and encourage lifestyle choices that support a healthy weight.

My Administration is working to make sure the hard work parents and caregivers are doing to teach kids healthy habits will not be undone outside the home. We have fought to improve the overall quality of school meals, and as students return to school this fall, they will have more opportunities than ever before to make healthy choices—including changes in foods offered in vending machines and a la carte lines. This past year, my Administration announced a new proposal to prohibit items that cannot be sold or served in schools from being marketed in schools. These measures build on the progress already made by the Healthy, Hunger-Free Kids Act of 2010, which this year will allow more than 22,000 schools across the country to qualify to serve free, healthy breakfasts and lunches for all their students.

Each American has an important part to play as we build healthier communities for young people across our Nation. During National Childhood Obesity Awareness Month, we continue our work to provide every child with healthy food, active play, and a good example to follow. By committing to a healthy lifestyle for our families and eating right ourselves, we can help turn the tide against childhood obesity across our country.

NOW, THEREFORE, I, BARACK OBAMA, President of the United States of America, by virtue of the authority vested in me by the Constitution and the laws of the United States, do hereby proclaim September 2014 as National Childhood Obesity Awareness Month. I encourage all Americans to learn about and engage in activities that promote healthy eating and greater physical activity by all our Nation's children.

IN WITNESS WHEREOF, I have hereunto set my hand this twenty-ninth day of August, in the year of our Lord two thousand fourteen, and of the Independence of the United States of America the two hundred and thirty-ninth.

[FR Doc. 2014-21256

Filed 9-3-14; 11:15 am]

Billing code 3295-F4